DEPARTMENT OF AGRICULTURE

Commodity Credit Corporation

Natural Resources Conservation Service

Conservation Security Program

AGENCY: Natural Resources Conservation Service and Commodity Credit Corporation, USDA.

ACTION: Notice.

SUMMARY: This document announces the sign-up CSP-05-01 for the Conservation Security Program (CSP). This sign-up will be open from March 28, 2005, through May 27, 2005, in selected 8-digit watersheds in all 50 States and the Caribbean.

DATES: The administrative actions announced in the notice are effective on March 25, 2005.

FOR FURTHER INFORMATION CONTACT: Craig Derickson, Branch Chief—Stewardship Programs, Financial Assistance Programs Division, NRCS, P.O. Box 2890, Washington, DC 20013-2890, telephone: (202) 720-1845; fax: (202) 720-4265. Submit e-mail to: craig.derickson@usda.gov, Attention: Conservation Security Program.

SUPPLEMENTARY INFORMATION: In an Interim Final Rule published concurrent with this notice, USDA's Natural Resources Conservation Service (NRCS) established the implementing regulations for Conservation Security Program (CSP). The CSP is a voluntary program administered by NRCS using authorities and funds of the Commodity Credit Corporation, that provides financial and technical assistance to producers who advance the conservation and improvement of soil, water, air, energy, plant and animal life, and other conservation purposes on Tribal and private working lands.

This document announces the CSP-05-01 sign-up that will be from March 28, 2005, through May 27, 2005, in selected 8-digit watersheds in all 50 States and the Caribbean, which can be viewed at http://www.nrcs.usda.gov/programs/csp/2005_CSP_WS/index.html. These watersheds were selected using the process set forth in the May 4, 2004, notice to the Federal Register. In addition to other data sources, this process used National Resources Inventory data to assess land use, agricultural input intensity, and historic conservation stewardship in watersheds nationwide. NRCS State Conservationists recommended a list of potential watersheds after gaining advice from the State Technical Committees. The final selection of FY 2005 watersheds was announced by the Secretary of Agriculture on November 1, 2004. NRCS has decided to allow limited sign-up in the 2004 sign-up watersheds to bring the total eligible watersheds to 220. The sign-up will only include those producers who do not have an existing CSP contract.

To be eligible for CSP, a majority of the agricultural operation must be within the limits of one of the selected watersheds. Applications which meet the minimum requirements as set forth in the interim final rule (listed below) will be placed in enrollment categories for funding consideration. Categories will be funded in order from A through E until funds are exhausted. If funds are not available to fund an entire category, then the applications will fall into subcategories and funded in order until funds are exhausted.

Applicants can submit only one application for this sign-up. Participants in an existing CSP contract are not eligible to be an applicant or a participant on more than one contract. Therefore anyone receiving a payment from an existing CSP contract is not eligible to apply for this sign-up or to receive payment in the form of a share from any new contract resulting from this sign-up.

Producers should begin the application process by filling out a self-assessment and then to determine if they meet the basic qualification for CSP. Self-assessment workbooks are available in hard copy at USDA Service Centers within the watersheds, and electronically for download or an interactive Web site linked from http://www.nrcs.usda.gov/programs/csp/2005_CSP_WS/index.html. The self-assessment workbook includes a benchmark inventory where the applicant documents the conservation practices and activities that are on going on their operation. This benchmark inventory serves as the basis for the stewardship plan. Once the producer determines that they meet the minimum requirements for CSP, as outlined in the workbook, they should make an appointment for an interview to discuss their application with the NRCS local staff.

In order to apply, applicants must submit:

1. A completed self-assessment workbook, including the benchmark inventory;

2. Documentation for calendar years 2003 and 2004 to show the stewardship completed including fertilizer, nutrient, and pesticide application schedules, tillage, and grazing schedules if applicable.

3. Completed CCC-1200 available through the self-assessment online guide, Web site, and any USDA Service Center.

Applicants are encouraged to attend preliminary workshops, which will be announced locally, the basic qualifications will be explained, and assistance provided to understand the self-assessment workbook and benchmark inventory.

CSP is offered at three tiers of participation. Some payments are adjusted based on the tier, and some payments are tier-neutral. See payment information below.

Minimum Tier Eligibility and Contract Requirements

The following are the minimum tier eligibility and contract requirements:

CSP Tier I—the benchmark condition inventory demonstrates to the satisfaction of NRCS that the applicant has addressed the nationally significant resource concerns of water quality and soil quality to the minimum level of treatment for any eligible landuse on part of the agricultural operation. Only the acreage meeting such requirements is eligible for stewardship and existing practice payments in CSP.

CSP Tier II—the benchmark condition inventory demonstrates to the satisfaction of NRCS that the applicant has addressed the nationally significant resource concerns of water quality and soil quality to the minimum level of treatment for all eligible land uses on the entire agricultural operation. Additionally, the applicant must agree to address another significant resource concern applicable to their watershed to be completed by the end of the contract period. If the applicable resource concern is already addressed or does not pertain to the operation, then this requirement is waived.

CSP Tier III—the benchmark condition inventory demonstrates to the satisfaction of NRCS that the applicant has addressed all of the existing resource concerns listed in Section III of the NRCS Field Office Technical Guide (FOTG) with a resource management system that meets the minimum level of treatment for all eligible land uses on the entire agricultural operation.

Delineation of the Agriculture Operation

Delineating an agriculture operation for CSP is an important part in determining the Tier of the contract, stewardship payments, and the required level of conservation treatment needed for participation. The applicant will delineate the agriculture operation to include all agricultural lands, and other lands such as farmstead, feedlots, and headquarters and incidental forestlands, under the control of the participant and constituting a cohesive management unit that is operated with equipment, labor, accounting system, and management that is substantially separate from any other. In delineating the agriculture operation, Farm Service Agency farm boundaries may be used. If farm boundaries are used in the application, the entire farm area must be included within the delineation. An applicant may offer one farm or aggregate farms into one agriculture operation.

Minimum Eligibility Requirements

To be eligible to participate in CSP, the applicants must meet the requirements for eligible applicants, the land offered under contract must meet the definition of eligible land, and the application must meet the conservation standards for that land as described below.

Eligible Applicants

To be eligible to participate, an applicant must:

(1) Be in compliance with the highly erodible land and wetland conservation provisions.

(2) Meet the Adjusted Gross Income requirements.

(3) Show control of the land for the life of the proposed contract period by providing NRCS with either written evidence or assurance of control from the landowner. In the case of land allotted by the Bureau of Indian Affairs (BIA) or Tribal land, there is considered to be sufficient assurance of control.

(4) Share in risk of producing any crop or livestock and be entitled to share in the crop or livestock available for marketing from the agriculture operation. Landlords and owners are ineligible to submit an application for exclusively cash rented agriculture operations.

(5) Complete a benchmark condition inventory for the entire agricultural operation or the portion being enrolled in accordance with § 1469.7(a) in the Interim Final Rule;

(6) Supply information, as required by NRCS, to determine eligibility for the program; including but not limited to, information related to eligibility criteria in this sign-up announcement; and information to verify the applicant's status as a beginning or limited resource farmer or rancher if applicable.

Eligible Land

To be eligible for enrollment in CSP, land must be:

(1) Private agricultural land;

(2) Private non-industrial forested land that is an incidental part of the agriculture operation (limited to up to ten percent of the contract acres);

(3) Agricultural land that is Tribal, allotted, or Indian trust land;

(4) Other incidental parcels (limited to up to ten percent of the contract acres), as determined by NRCS, which may include, but are not limited to, land within the bounds of working agricultural land or small adjacent areas (such as center pivot corners, linear practices, field borders, turn rows, intermingled small wet areas or riparian areas); or

(5) Other land on which NRCS determines that conservation treatment will contribute to an improvement in an identified natural resource concern, including areas outside the boundary of the agricultural land or enrolled parcel such as farmsteads, ranch sites, barnyards, feedlots, equipment storage areas, material handling facilities, and other such developed areas (limited to up to ten percent of the contract acres). Other land must be treated in Tier III contracts.

Land Not Eligible for Enrollment in CSP

The following lands are ineligible for enrollment in CSP:

(1) Land enrolled in the Conservation Reserve Program, the Wetlands Reserve Program, or the Grassland Reserve Program; and

(2) Public land including land owned by a Federal, State, or local unit of government.

Land referred to above may not receive CSP payments, but the conservation work on this land may be used to determine if an applicant meets eligibility criteria for the agricultural operation and may be described in the Conservation Stewardship Plan.

Land Not Eligible for Any Payment Component in CSP

Land that is used for crop production after May 13, 2002, that had not been planted, considered to be planted, or devoted to crop production, as determined by NRCS, for at least 4 of the 6 years preceding May 13, 2002, is not eligible for any payment component in CSP.

Conservation Standards for Tier I and Tier II

The following conservation standards apply for Tier I and Tier II:

1. The minimum level of treatment on cropland;

i. The minimum level of treatment for soil quality on cropland is considered achieved when the Soil Conditioning Index is positive; and

ii. The minimum level of treatment for water quality on cropland is considered achieved if the benchmark inventory indicates that the current level of treatment addresses the risks that nutrients, pesticides, sediment, and salinity present to water quality by meeting or exceeding the quality criteria for the specific resource concerns of nutrients, pesticides, sediment and salinity for surface water and nutrients, pesticides and salinity for ground water, if applicable.

2. The minimum level of treatment on pastureland and rangelands for Tier I and Tier II is vegetation and animal management, which enhances the soil resource by following a grazing management plan that provides for: a forage-animal balance, proper livestock distribution, timing of use, and managing livestock access to water courses.

Conservation Standards for Tier III

The minimum level of treatment for Tier III on any eligible landuse is:

1. Assuring all that riparian corridors, including streams and natural drainages, within the agricultural operation are buffered to restore, protect, or enhance riparian resources. Riparian corridors, as appropriate, will be managed or designed to intercept sediment, nutrients, pesticides, and other materials in surface runoff; reduce nutrients and other pollutants in shallow subsurface water flow; lower water temperature; and provide litter fall or structural components for habitat complexity or to slow out-of-bank floods; and

2. Meeting the quality criteria for the local NRCS FOTG for all existing resource concerns with these exceptions:

(A) The minimum requirement for soil quality on cropland is considered achieved when the Soil Conditioning Index value is positive;

(B) The minimum requirement for water quantity—irrigation water management on cropland or pastureland is considered achieved when the current level of treatment and management for the system results in a water use index value of at least 50; and

(C) The minimum requirement for wildlife is considered achieved when the current level of treatment and management for the system results in an index value of at least 0.5 of the habitat potential using a general or species specific habitat assessment guide.

CSP Contract Payments and Limits

CSP contract payments include one or more of the following components subject to the described limits:

• An annual per acre stewardship component for the benchmark conservation treatment. This component is calculated separately for each land use by multiplying the number of acres times the tier factor (0.05 for Tier I, 0.10 for Tier II, and 0.15 for Tier III) times the stewardship payment rate established for the watershed times the tier reduction factor (0.25 for Tier I and 0.50 for Tier II, and 0.75 for Tier III).

• An annual existing practice component for maintaining existing conservation practices. Existing practice payments will be calculated as a flat rate of 25 percent of the stewardship payment.

• A new practice component for additional practices on the watershed specific list. New practice payments for limited resource farmers and beginning farmers will be made at not more than 65 percent cost-share rate. New practice payments for all other contracts will be made at not more than a 50 percent cost-share rate. All new practice payments are limited to a $10,000 cumulative total for the contract.

• An annual enhancement component for exceptional conservation effort and additional conservation practices or activities that provide increased resource benefits beyond the required conservation standard noted above. This payment will be calculated at a variable payment rate for enhancement activities that are part of the benchmark inventory. The annual enhancement payment for the first contract year for the enhancements documented in the benchmark inventory will be calculated at a rate initiating at 150 percent for the 2005 contract year and then at a declining rate for the remainder of the contract of 90 percent for 2006, 70 percent for 2007, 50 percent for 2008, 30 percent for 2009, 10 percent for 2010 and zero after 2010. This is intended to provide contract capacity to add additional enhancements in the out-years and to encourage participants to make continuous improvements to their operation. In order to maintain the same level of payment over the life of the contract, the participant may add additional enhancement activities of their choice in later years. The additional enhancements will be paid at a flat rate of 100 percent. The total of all enhancement payments in any one year will not exceed $13,750 for Tier I, $21,875 for Tier II, and $28,125 for Tier III annually. The NRCS Chief may allow for special enhancements for producer-based studies and assessments on a case-by-case watershed basis.

• An advance enhancement payment is available in the FY 2005 sign-up. The advance enhancement payment is available to contracts with an initial enhancement payment as determined in the benchmark inventory and interview. The advance enhancement payment would shift a portion of that annual enhancement payment amount into the first-year payment and deduct it from the following years' payments.

Tier I contracts are for a five-year duration. Tier II and Tier III contracts are for a five- to 10-year duration at the option of the participant. Participants who move from Tier I to Tier II or III may increase their contract length to up to ten years from the original contract date.

Total annual maximum contract payment limits are $20,000 for Tier I, $35,000 for Tier II, and $45,000 for Tier III, including any advance enhancement payment.

The payment components are tailored for the selected watersheds. For more details, call or visit the local USDA Service Center, or view on the Web at http://www.nrcs.usda.gov/programs/csp/2005_CSP_WS/index.html.

Enhancement Components Available in This Sign-up

The following are the enhancement components available this sign-up:

1. Additional conservation treatment above the quality criteria for soil quality, nutrient management, pest management, irrigation water management, grazing, air and energy management; and

2. Addressing locally identified conservation needs shown on the watershed specific enhancement lists.

The payment components are tailored for the selected watersheds. For more details, call or visit the local USDA Service Center, or view on the Web at http://www.nrcs.usda.gov/programs/csp/2005_CSP_WS/index.html.

The Administration budget projects that between 12,000 and 13,000 contracts will be available under this sign-up, with roughly 45 percent of those in Tier I, 45 percent in Tier II, and 10 percent in Tier III.

CSP Enrollment Categories and Subcategories

Technical adjustments to the enrollment categories were made based on field testing of the criteria published in a previous notice. This notice provides updated enrollment category criteria.

The CSP will fund the enrollment categories A through E in alphabetical order (Attachment #1). If an enrollment category cannot be completely funded, then subcategories will be funded in the following order:

1. Applicant is a limited resource producer;

2. Applicant is a participant in an on-going monitoring program;

3. Agricultural operation in a designated water conservation area or aquifer zone;

4. Agricultural operation in a designated drought area;

5. Agricultural operation in a designated water quality area, such as designated watersheds with Total Maximum Daily Loading (TMDL) limits with a priority on pesticides;

6. Agricultural operation in a designated water quality area, such as designated watersheds with TMDL limits with a priority on nutrients;

7. Agricultural operation in a designated water quality area, such as designated watersheds with TMDL limits with a priority on sediment;

8. Agricultural operation in a designated non-attainment area for air quality or other local or regionally designated air quality zones;

9. Agricultural operation in a designated area for threatened and endangered species habitat creation and protection;

10. Participating in an ongoing watersheds plan or conservation project;

11. Agricultural operation is intermingled with public land where there is no way to distinguish the public from the private land for management purposes; and

12. Other applications.

Designated means “officially assigned a priority by a Federal, State, or local unit of government” prior to this notice. If a subcategory cannot be fully funded, applicants will be offered the FY 2005 CSP contract payment on a prorated basis.

Signed in Washington, DC, on March 18, 2005.
Bruce I. Knight,
Vice President, Commodity Credit Corporation, Chief, Natural Resources Conservation Service.

2005 CSP Enrollment Categories—Criteria by Land Use and Category

Cropland
[Row crops, closely grown crops, hay or pasture in rotation with row or closely grown crops, orchards, vineyards, horticultural crops, and permanent hayland]
Category | Criteria: Soil conditioning index | Criteria: Stewardship practices and activities (from list below) in place for at least two years
A | SCI of ≥ 0.30 or STIR rating of ≤ 15 | At least 2 unique practices activities from each area of Soil Quality, Water Quality, and Wildlife Habitat.
B | SCI of ≥ 0.20 or STIR rating of ≤ 30 | At least 1 unique practice or activities from each area of Soil Quality, Water Quality, and Wildlife Habitat, and one additional practice from any of the areas.
C | SCI of ≥ 0.10 or STIR rating of ≤ 60 | At least 1 unique practice or activity from each area of Soil Quality, Water Quality and Wildlife Habitat.
D | SCI of ≥ 0.10 or STIR rating of ≤ 100 | At least 2 unique practices or activities from any of the areas.
E |  | *Must meet minimum program eligibility requirements as defined in 7 CFR 1469.

Pasture
Category | Criteria: Pasture condition score | Criteria: Stewardship practices and activities (from list below) in place for at least two years
A | At least 45 | At least 2 unique practices or activities from each area of Soil Quality, Water Quality, and 1 Wildlife Habitat.
B | At least 40 | At least 1 unique practice or activities from each area of Soil Quality, Water Quality, and Wildlife Habitat, and one additional practice from any of the areas.
C | At least 35 | At least 1 unique practice or activity from each area of Soil Quality, Water Quality and Wildlife Habitat.
D | At least 35 | At least 2 unique practices or activities from any of the areas.
E |  | *Must meet minimum program eligibility requirements as defined in 7 CFR 1469.

Range
Category | Criteria: Rangeland health | Criteria: Stewardship practices and activities (from list below) in place for at least two years
A | None to slight for all 3 attributes | Prescribed Grazing plus at least 1 unique practice or activity from each area of Soil Quality, Water Quality and Wildlife Habitat.
B | None to slight for 2 attributes and slight to moderate for 1 attribute | Prescribed Grazing plus at least 1 unique practice or activity from any 2 of the following areas of Soil Quality, Water Quality and Wildlife Habitat.
C | None to slight for 1 attribute and slight to moderate for 2 attributes | Prescribed Grazing plus at least 1 unique practice or activity from any 2 of the following areas of Soil Quality, Water Quality and Wildlife Habitat.
D | Slight to moderate or higher for 2 attributes and slight to moderate or moderate to extreme for 1 attribute | Prescribed Grazing plus at least 1 unique practice or activity from each of the following areas of Soil Quality, Water Quality and Wildlife Habitat.
E |  | *Must meet minimum program eligibility requirements as defined in 7 CFR 1469.

2005 CSP Enrollment Categories—Criteria by Land Use and Category

Cropland Soil Quality—Stewardship Practice and Activity List for Soil Quality

• Conservation crop rotation expanded with increased amount of sod or perennial crops in rotation for a minimum of 2 years; or a high biomass crop every other year, or annual cover crop, or a combination of crops that match soil water storage with crop water use needs.

• Residue management system with no-till or strip tillage systems to maintain plant residues on the soil surface year-round.

• Contour orchards and other fruit areas with cultural operations for vineyards, or minor crops performed on the contour.

• Cover crops of grasses, legumes, forbs, or other herbaceous plants established for seasonal cover, or with chipping residue in orchards, vineyards, or minor crops systems.

• Nutrient management with soil test and/or plant tissue test on annual basis to meet crop needs.

• Crop management with use of certified crop consultants to monitor need for herbicide and pesticide applications.

• Soil salinity management on irrigated cropland with soil amendments such as polyacrylamide (PAM) or gypsum.

• Contour buffer strips with permanent, herbaceous vegetative cover established across the slope and alternated down the slope with parallel, wider cropped strips.

• Filter strip of herbaceous vegetation situated between cropland, grazing land, or forestland and environmentally sensitive areas.

• Field borders with a strip of permanent vegetation established at the edge or around the perimeter of a field.

• Grassed waterway that is shaped or graded to required dimensions and established with suitable vegetation.

• Alley cropping with trees or shrubs planted in single or multiple rows with agronomic, horticultural crops or forages produced between rows of woody plants.

• Stripcropping with row crops, forages, small grains, or fallow in alternating across a field.

• Riparian forest buffer of trees and/or shrubs located adjacent to and up-gradient from watercourses or water bodies.

• Riparian herbaceous cover consisting of grasses, grass-like plants and forbs.

• Windbreak and shelterbelt establishment of single or multiple rows of trees or shrubs.

• Hedgerow planting with the establishment of dense vegetation.

• Herbaceous wind barriers with vegetation established in rows or narrow strips across the prevailing wind direction.

• Cross wind trap strips with herbaceous cover resistant to wind erosion.

• Pasture and hayland plantings for establishing native or introduced forage species.

• Forage harvest management for improved ground cover, protection from soil erosion and to improve soil characteristics.

2005 CSP Enrollment Categories—Criteria by Land Use and Category

Cropland Water Quality—Stewardship Practice and Activity List for Water Quality

Cropland WQ—Permanent Vegetation Practices and Activities

• Cover crops of grasses, legumes, forbs, or other herbaceous plants established for seasonal cover.

• Contour buffer strips with permanent, herbaceous vegetative cover established across the slope and alternated down the slope with parallel, wider cropped strips.

• Water control structures to catch, manage and properly use water applications.

• Critical area planting that establishes permanent vegetation on sites with high erosion rates, and physical, chemical or biological conditions that prevent the establishment of vegetation with normal practices.

• Field borders with a strip of permanent vegetation established at the edge or around the perimeter of a field.

• Filter strip with herbaceous vegetation between cropland, grazing land, or forestland and environmentally sensitive areas.

• Hedgerow planting of dense vegetation in a linear design.

• Pasture and hayland planting to provide increased sod or perennial crops in rotation for a minimum of 2 years.

• Riparian forest buffer of trees and/or shrubs located adjacent to and up-gradient from watercourses or water bodies.

• Riparian herbaceous cover consisting of grasses, grass-like plants and forbs.

• Grassed waterway that is shaped or graded to required dimensions and established with suitable vegetation.

Cropland WQ—Water Management Practices and Activities

• Sediment basins to collect and store debris or sediment.

• Soil salinity management on irrigated cropland with soil amendments such as polyacrylamide (PAM) or gypsum.

• Water and sediment control basins to trap sediment and detain water.

• Wetland enhancement to increase function and values.

• Wetland restoration and rehabilitation of a drained or degraded wetland to restore natural condition.

• Irrigation system with micro-irrigation for distribution of water directly to the plant root zone.

• Irrigation system with MESA, LIPC, LEPA or similar high efficiency irrigation system to supply crop needs that matches water application to crops, soils and topography.

• Irrigation water management by determining and controlling the volume, frequency, and application rate of irrigation water, and

—Improved system efficiency by evaluations and adjustment;

—Use of data from on-farm weather station; and

—Use of tensiometers or other techniques to assess and improve irrigation water management.

• Crop rotation and selection to minimize the use of irrigation by planting alternative crops with reduced water needs.

• Drainage water management through seasonal on-farm water storage and retention.

• Irrigation with a tailwater return system which utilizes the collection, storage, and transportation of irrigation tailwater for reuse.

Cropland WQ—Pest Management Practices and Activities

• Pest management activities, including:

—Spot spraying activities and other control of noxious/invasive weeds.

—Minimize pesticide use by selecting plant varieties to minimize the application of pesticides.

—Use a risk assessment tool such as WINPST to select the least toxic pesticides and herbicides to minimize harmful environmental effects.

—Use local guidelines to set economic thresholds for pests to minimize use of pesticides and herbicides.

—Use beneficial insects.

Cropland WQ—Nutrient Management Practices and Activities

• Nutrient management activities, including:

—Precise nutrient application of such as—banding, side dressing, injection, fertigation.

—Split nitrogen application to meet crop needs.

—Test soil and/or plant tissue annually.

—Use yield monitoring data to determine nutrient needs.

—Waste utilization to control pathogen and organic runoff.

—Feed management and additives.

2005 CSP Enrollment Categories—Criteria by Land Use and Category

Cropland Wildlife Habitat—Stewardship Practice and Activity List for Wildlife Habitat (Activities to improve fish and wildlife habitat)

• Conservation crop rotation with increased amount of sod or perennial crops in rotation for a minimum of 2 years.

• Cover crops of grasses, legumes, forbs, or other herbaceous plants established for seasonal cover.

• Critical area planting that establishes permanent vegetation on sites with high erosion rates, and other conditions that prevent the establishment of vegetation with normal practices.

• Pest management by:

—Spot spraying activities and other control of noxious/invasive weeds.

—Minimize pesticide use by selecting plant varieties to minimize the application of pesticides.

—Use a risk assessment tool such as WINPST or others to select the least toxic pesticides and herbicides to minimize harmful environmental effects.

—Use of beneficial insects.

• Pasture and hay plantings by establishing native or introduced forage species.

• Forage harvest management with timely cutting and removal of forages from the field as hay, green-chop or ensilage, or by mowing crops from center of field outward

• Wildlife habitat management in approved management plan or Private Lands Agreement that meets the needs for food, cover or water for targeted species.

• Wetland restoration and rehabilitation of a drained or degraded wetland to restore wetland functions and values.

• Wetland enhancement to increase function and values.

• Drainage water management with control of water surface elevations and discharge from surface and subsurface drainage systems.

• Shallow water development to provide open water on fields and moist soil areas to facilitate waterfowl resting and feeding and provide habitat for reptiles, amphibians and other aquatic species.

• Stream habitat management activities to maintain, improve, or restore physical, chemical and biological functions of a stream.

• Wildlife habitat management by winter flooding of cropland fields for species in need of conservation.

• Windbreak and shelterbelt establishment of single or multiple rows of trees or shrubs.

• Hedgerow planting of dense heterogeneous vegetation in a linear design.

• Field borders with permanent vegetation at the edge or around the perimeter of a field for wildlife.

• Riparian forest buffer of trees and/or shrubs located adjacent to and up-gradient from watercourses or water bodies.

• Riparian herbaceous cover consisting of grasses, grass-like plants and forbs.

• Drainage water management through seasonal on-farm water storage and retention.

2005 CSP Enrollment Categories—Criteria by Land Use and Category

Grazing Lands: Stewardship Practice and Activity List for Plant Health and Soil Quality (Activities To Improve Soil Quality or the Health of the Plant Community)

• Brush management for removal, reduction or manipulation of non-herbaceous plants.

• Pasture and hay plantings by establishing permanent vegetative cover.

• Range planting to establish adapted perennial vegetation.

• Prescribed burning by applying controlled fire to a predetermined area.

• Grassed waterway that is shaped or graded to required dimensions and established with suitable vegetation.

• Grazing land mechanical treatment modifying physical soil and/or plant conditions.

• Channel bank stabilization by establishing and maintaining vegetation.

• Soil salinity management on non-irrigated grazing lands.

• Prescribed grazing management including:

—Bottomland or riparian area treated as a separate grazing treatment unit and alternative watering facilities in place.

—Grazing distribution facilitated by managing watering locations and rotating feeding and salting areas.

—Use of decision support tools in development of grazing and/or animal management plans, such as Grazing Lands Spatial Analysis Tool (GSAT), Nutritional Balance Analyzer (NUTBAL), etc.

—Participating in grass-banking or stockpiling.

—Application of monitoring plan for improved grazing management.

• Riparian herbaceous cover improvements with cover consisting of grasses, grass-like plants and forbs.

• Nutrient management with soil and/or plant tissue test every 3 years on pastures not receiving confinement wastes or annual tests where confinement wastes are applied.

• Irrigation water management properly determining and controlling the volume, frequency, and application rate of irrigation water in a planned, efficient manner.

• Heavy use area protection and stabilization by establishing vegetative cover, surfacing with suitable materials, and/or installing needed structures.

2005 CSP Enrollment Categories—Criteria by Land Use and Category

Grazing Lands: Stewardship Practice and Activity List for Water Quality

• Prescribed grazing management by use of decision support tools in development of grazing and/or animal management plans, such as Grazing Lands Spatial Analysis Tool (GSAT), Nutritional Balance Analyzer (NUTBAL), etc., or application of monitoring plan.

• Brush management for removal, reduction or manipulation of non-herbaceous plants.

• Water well constructed to access aquifers.

• Watering facility for providing animal access to water.

• Critical area planting that establishes permanent vegetation on sites with high erosion rates, and physical, chemical or biological conditions that prevent the establishment of vegetation with normal practices.

• Fence (sensitive area protection only) to control movement of animals and people.

• Spring development that provides water for a conservation need.

• Pipeline installed to convey water for livestock, wildlife, or recreation.

• Nutrient management by:

—Soil and/or plant tissue test every 3 years on pastures not receiving confinement wastes or annual tests where confinement wastes are applied.

—Direct injection of animal wastes.

—Split nitrogen applications to meet current crop needs.

• Integrated pest management to control weeds, brush, insects, or diseases.

• Stream crossing constructed to provide a travel way for people, livestock, equipment, or vehicles.

• Stream habitat management activities to maintain, improve, or restore physical, chemical and biological functions of a stream.

• Streambank and shoreline protection treatments to stabilize and protect banks of streams, constructed channels, shorelines of lakes, reservoirs, or estuaries.

• Water and sediment control basins to trap sediment and detain water.

• Livestock watering areas have controlled access.

• Riparian herbaceous cover improvements with additions of grasses, grass-like plants and forbs.

• Wetland enhancement to increase function and values.

• Wetland restoration and rehabilitation of a drained or degraded wetland to restore natural condition.

• Waste utilization to control pathogen and organic runoff.

CSP Enrollment Categories—Criteria by Resource Concern

Grazing Lands: Stewardship Practice and Activity List for Wildlife Habitat (Activities To Improve Fish and Wildlife Habitat)

• Channel bank stabilization by establishing and maintaining vegetation.

• Critical area planting that establishes permanent vegetation on sites with high erosion rates, physical, chemical or biological conditions that prevent the establishment of vegetation with normal practices.

• Heavy use area protection and stabilization by establishing vegetative cover, surfacing with suitable materials, and/or installing needed structures.

• Pasture and hay plantings of native or introduced forage species.

• Prescribed burning by applying controlled fire to a predetermined area.

• Riparian herbaceous cover improvements with additions of grasses, grass-like plants and forbs.

• Spring development that provides water during critical times.

• Stream habitat improvement and management activities to maintain, improve, or restore physical, chemical and biological functions of a stream.

• Streambank and shoreline protection treatments to stabilize and protect banks of streams, constructed channels, shorelines of lakes, reservoirs, or estuaries.

• Water well constructed to access aquifers.

• Watering facility for providing animal access to water.

• Wetland enhancement to increase function and values.

• Wetland restoration and rehabilitation of a drained or degraded wetland to restore functions and values.

• Wildlife watering facility that meets the needs of targeted species.

• Wildlife habitat management by:

—Application of an approved management plan or Private Lands Agreement that meets the needs for food, cover or water for targeted species.

—Enhance wildlife habitat linkages and corridors by creating a mosaic or pattern.

—Management that provides for shallow water and wetland wildlife habitat improvement.

• Prescribed grazing management that:

—Adds functional group pastures to improve pasture condition.

—Interseeding of desirable forages and legumes

—Timed grazing on a portion of paddocks to create habitat for targeted species.

—Increased plant diversity—forbs and legumes greater than 40%.

—Patch burn/graze to improve wildlife habitat diversity and cover.

• Integrated pest management activities for weeds, brush, insects, or diseases that include follow-up treatment.

• Brush management for removal, reduction or manipulation of non-herbaceous plants.

• Range planting to establishment of adapted perennial vegetation.

[FR Doc. 05-5895 Filed 3-24-05; 8:45 am]

BILLING CODE 3410-16-P